DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 9, 2001.

Interested persons are invited to submit written comments regarding the subject matter of the investigations to the Director, Division of Trade Adjustment Assistance, at the address shown below, not later than July 9, 2001.

The petitions filed in this case are available for inspection at the Office of the Director, Division of Trade Adjustment Assistance, Employment and Training Administration, U.S. Department of Labor, Room C-5311, 200 Constitution Avenue, NW, Washington, D.C. 20210.

Signed at Washington, D.C. this 14th day of May, 2001.
Edward A. Tomchick,
Director, Division of Trade Adjustment Assistance.

Appendix
[Petitions instituted on 05/14/2001]
TA-W | Subject firm (petitioners) | Location | Date of petition | Product(s)
39,226 | Texler, Inc. (Comp) | Macedonia, OH | 05/01/2001 | Tooling and Plastic Components
39,227 | Roche Diagnostics (Wrks) | Indianapolis, IN | 04/16/2001 | Blood Testing Cartridges
39,228 | Emerson Power Trans. (IAM) | Valparaiso, IN | 04/26/2001 | Bearings
39,229 | Perfect Fit Industries (Comp) | Tell City, IN | 02/14/2001 | Bed Pillows
39,230 | Chahaya Optronics (Wrks) | Fremont, CA | 04/23/2001 | Media Hard Disks
39,231 | Saturn Electronics (Comp) | Marks, MS | 04/17/2001 | Plunger and Contact Assemblies
39,232 | Timber Tech, Inc. (Comp) | Libby, MT | 04/28/2001 | Raw Wood Products
39,233 | Fansteel (Wrks) | Addison, IL | 04/24/2001 | Metal Auto Parts
39,234 | Globe Building Materials () | Cornell, WI | 04/19/2001 | Building Felt
39,235 | Krupp Hoesch Suspensions (Comp) | Hamilton, OH | 04/27/2001 | Auto Suspension Springs
39,236 | Winky Textiles, Inc. (Comp) | Hauppauge, NY | 04/24/2001 | Fabrics
39,237 | International Paper (Wrks) | Verona, MS | 04/25/2001 | Boxes
39,238 | Amtec, Michigan Corp (UAW) | St. Clair Shore, MI | 04/23/2001 | Systems for Master Brake Cylinders
39,239 | D'Classe Cutting LC (Wrks) | Medley, FL | 04/26/2001 | Apparel Cutting Services
39,240 | FCI Electronics (Wrks) | Hanover, PA | 04/26/2001 | Connectors
39,241 | Johnson Controls, Inc. (Comp) | Sycamore, IL | 05/02/2001 | Auto Seats
39,242 | Osram Sylvania Products (Wrks) | Wellsboro, PA | 05/01/2001 | Glass Light Bulbs
39,243 | D and J Apparel, Inc. (Comp) | Albemarle, NC | 05/01/2001 | Sweat Shirts
39,244 | Hart Schaffner and Marx (UNITE) | Farmington, MO | 05/03/2001 | Men's Suit Pants
39,245 | Isaac Hazan and Co., Inc (Comp) | Secaucus, NJ | 04/30/2001 | Ladies' Clothing
39,246 | ABB Automation (Wrks) | Williamsport, PA | 05/01/2001 | Cable Assembly
39,247 | Arc Mills Corp. (Comp) | New York, NY | 04/24/2001 | Convertor—Piece Goods Fabric
39,248 | Nypro Oregon (Wrks) | Corvallis, OR | 05/03/2001 | Plastic parts
39,249 | Ashland Chemical (IBT) | Easton, PA | 05/03/2001 | Chemicals
39,250 | Pilkington North American (Wrks) | Sherman, TX | 05/02/2001 | Laminated Glass—Autos
39,251 | R and N China Co., Inc (Comp) | Carrollton, OH | 05/02/2001 | China Gift Items
39,252 | Teck Resources, Inc. (Wrks) | Reno, NV | 04/30/2001 | Copper, Zinc and Gold
39,253 | Federal Mogul (Wrks) | Salisbury, NC | 05/03/2001 | Brake Pads—Trucks
39,254 | Guerin Logging (Wrks) | Warm Springs, OR | 04/19/2001 | Logs
39,255 | Potlatch Corp. (Wrks) | Brainerd, MN | 05/01/2001 | Coated Printed Paper
39,256 | Nortel Networks (Wrks) | Simi Valley, CA | 05/02/2001 | Research, Development and Engineering
39,257 | Phoenix Mills, Inc. (Comp) | Concord, NC | 05/01/2001 | Greige Goods
39,258 | Pillowtex Corp (Comp) | Newton, NC | 05/02/2001 | Yarn
39,259 | Techneglas, Inc (Comp) | Columbus, OH | 04/25/2001 | Picture Tube Panels
39,260 | Allegheny Ludlum Steel (USWA) | Pittsburgh, PA | 04/26/2001 | Steel
39,261 | Gunite Corp., EMI Plant (USWA) | Erie, PA | 05/01/2001 | Wheels and Components
39,262 | United Plastics Group (Wrks) | Anaheim, CA | 04/30/2001 | Plastic Laptop Components
39,263 | Hoskins Manufacturing Co (Comp) | Charlevoix, MI | 04/30/2001 | Alloys
39,264 | Fleetguard/Nelson (Comp) | Neillsville, WI | 04/15/2001 | Exhaust/Filtration Products
39,265 | McGinley Mills, Inc (UNITE) | Easton, PA | 04/26/2001 | Ribbon
39,266 | TDK Ferrites Corp (Wrks) | Shawnee, OK | 04/25/2001 | Deflection Yoke Cores
39,267 | Johnstown Babbitting (Comp) | Seward, PA | 04/30/2001 | Stainless Steel, Ductile Iron
39,268 | Whemco (Comp) | Homestead, PA | 04/27/2001 | Finish Turn Rolls
39,269 | Whemco—Midland Foundry (Comp) | Midland, PA | 04/27/2001 | Foundry Operation
39,270 | Bemis Company, Inc (Comp) | Vancouver, WA | 05/03/2001 | Multiwall Paper Bags
39,271 | Custom Shop (The) (Wrks) | Franklin, NJ | 05/02/2001 | Customized Men's Shirts
39,272 | Technimark, Inc. (Wrks) | Randleman, NC | 05/02/2001 | Molded Plastic Parts

>

[FR Doc. 01-16070 Filed 6-26-01; 8:45 am]

BILLING CODE 4510-30-M